DEPARTMENT OF COMMERCE

International Trade Administration

[C-427-810]

Preliminary Results of Full Sunset Review: Certain Corrosion-Resistant Carbon Steel Flat Products from France

AGENCY: Import Administration, International Trade Administration, Department of Commerce.

SUMMARY: On November 1, 2005, the Department of Commerce (“the Department”) initiated a sunset review of the countervailing duty (“CVD”) order on certain corrosion-resistant carbon steel flat products from France, pursuant to section 751(c) of the Tariff Act of 1930, as amended (“the Act”). On the basis of a notice of intent to participate and an adequate substantive response filed on behalf of the domestic interested parties, an adequate response from respondent interested parties, and respondent interested parties' arguments regarding post-investigation privatization of Usinor, the Department determined to conduct a full sunset review of this CVD order pursuant to section 751(c) of the Act and 19 CFR 351.218(e)(2). As a result of our analysis, the Department preliminarily finds that revocation of the CVD order would likely lead to continuance or recurrence of a countervailable subsidy.

EFFECTIVE DATE: May 31, 2006.

FOR FURTHER INFORMATION CONTACT: Stephanie Moore or Brandon Farlander, AD/CVD Operations, Import Administration, International Trade Administration, U.S. Department of Commerce, 14th Street & Constitution Avenue NW., Washington, DC 20230; telephone: (202) 482-3692 or (202) 482-4136, respectively.

SUPPLEMENTARY INFORMATION:

Background

On November 1, 2005, the Department initiated a sunset review of the CVD order on certain corrosion-resistant carbon steel flat products from France pursuant to section 751(c) of the Act. See Initiation of Five-year (“Sunset”) Reviews, 70 FR 65884 (November 1, 2005). On November 9, 2005, the Department received a notice of intent to participate on behalf of Nucor Corporation (“Nucor”), and on November 16, 2005, on behalf of Mittal Steel USA ISG Inc. (“Mittal Steel USA”) and Ispat-Inland (“Ispat”); United States Steel Corporation (“U.S. Steel”); and United Steel, Paper and Forestry, Rubber, Manufacturing, Energy, Allied Industrial and Service Workers International Union, AFL-CIO-CLC (“USW”) (collectively, “domestic interested parties”). The domestic interested parties claimed interested party status under sections 771(9)(C) and (D) of the Act, as domestic producers of a like product and a union engaged in the production of subject merchandise in the United States. The Department received substantive responses from the domestic interested parties as well as from Arcelor S.A. (“Arcelor”), successor-in-interest to Usinor Sacilor; Duferco Coating SA and Sorral SA (“Duferco Sorral”); the European Union (“EU”); and the Government of France (“GOF”) (collectively, “respondent parties”), within the 30-day deadline specified in 19 CFR 351.218(d)(3)(I). As a result, pursuant to section 751(c)(5) of the Act and 19 CFR 351.218(e)(2)(i), the Department is conducting a full sunset review of this CVD order.

The Department determined that the sunset review of the CVD order on certain corrosion-resistant carbon steel flat products from France is extraordinarily complicated. In accordance with section 751(c)(5)(C)(v) of the Act, the Department may treat a review as extraordinarily complicated if it is a review of a transition order (i.e., an order in effect on January 1, 1995). (See section 751(c)(6)(C) of the Act). Therefore, on February 28, 2006, the Department extended the time limit for the completion of the preliminary results of this full sunset review until no later than May 22, 2006, 90 days from the original scheduled date, in accordance with section 751(c)(5)(B) of the Act. See Certain Corrosion-Resistant Carbon Steel Flat Products from France: Extension of Time Limits for Preliminary Results and Final Results of Full Sunset Review, 71 FR 10011 (February 28, 2006).

Scope of the Order

The merchandise covered by this order includes flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable under the Harmonized Tariff Schedule of the United States (“HTSUS”) item numbers 7210.31.0000, 7210.39.0000, 7210.41.0000, 7210.49.0030, 7210.49.0090, 7210.60.0000, 7210.70.6030, 7210.70.6060, 7210.70.6090, 7210.90.1000, 7210.90.6000, 7210.90.9000, 7212.21.0000, 7212.29.0000, 7212.30.1030, 7212.30.1090, 7212.30.3000, 7212.30.5000, 7212.40.1000, 7212.40.5000, 7212.50.0000, 7212.60.0000, 7215.90.1000, 7215.90.5000, 7217.12.1000, 7217.13.1000, 7217.19.1000, 7217.19.5000, 7217.22.5000, 7217.23.5000, 7217.29.1000, 7217.29.5000, 7217.32.5000, 7217.33.5000, 7217.39.1000, and 7217.39.5000. Included in this order are flat-rolled products of non-rectangular cross-section where such cross-section is achieved subsequent to the rolling process (i.e., products which have been “worked after rolling”) -- for example, products which have been beveled or rounded at the edges. Excluded from this order are flat-rolled steel products either plated or coated with tin, lead, chromium, chromium oxides, both tin and lead (“terne plate”), or both chromium and chromium oxides (“tin-free steel”), whether or not painted, varnished or coated with plastics or other nonmetallic substances in addition to the metallic coating. Excluded from this order are clad products in straight lengths of 0.1875 inch or more in composite thickness and of a width which exceeds 150 millimeters and measures at least twice the thickness. Also excluded from this order are certain clad stainless flat-rolled products, which are three-layered corrosion-resistant carbon steel flat-rolled products less than 4.75 millimeters in composite thickness that consist of a carbon steel flat-rolled product clad on both sides with stainless steel in a 20%%-60%%-20%% ratio. The HTSUS numbers are provided for convenience and customs purposes. The written description remains dispositive.

Analysis of Comments Received

All issues raised in this review are addressed in the Issues and Decision Memorandum (“Decision Memorandum”) from Stephen J. Claeys, Deputy Assistant Secretary for Import Administration, to David M. Spooner, Assistant Secretary for Import Administration, dated May 22, 2006, which is hereby adopted by this notice. Parties can find a complete discussion of all issues raised in this review and the corresponding recommendation in this public memorandum which is on file in the Central Records Unit, Room B-099 of the main Commerce building. In addition, a complete version of the Decision Memorandum can be accessed directly on the Web at http://ia.ita.doc.gov/frn. The paper copy and electronic version of the Decision Memorandum are identical in content.

Preliminary Results of Review

The Department preliminarily determines that revocation of the CVD order would likely lead to continuation or recurrence of a countervailable subsidy. The net countervailable subsidy likely to prevail if the order were revoked is 0.16 percent ad valorem.

Interested parties may submit case briefs no later than July 11, 2006, in accordance with 19 CFR 351.309 (c)(1)(i). Any interested party may request a hearing within 30 days of publication of this notice in accordance with 19 CFR 351.310 (c). Rebuttal briefs, which must be limited to issues raised in the case briefs, may be filed not later than July 16, 2006, in accordance with 19 CFR 351.309 (d). The Department will issue a notice of final results of this sunset review, which will include the results of its analysis of issues raised in any such comments, no later than September 27, 2006.

We are issuing and publishing the results and notice in accordance with sections 751(c), 752, and 777(i)(1) of the Act.

Dated: May 22, 2006.
David M. Spooner,
Assistant Secretary for Import Administration.

[FR Doc. E6-8393 Filed 5-30-06; 8:45 am]

BILLING CODE 3510-DS-S